TENNESSEE VALLEY AUTHORITY

Webinar Meeting of the Regional Energy Resource Council

AGENCY: Tennessee Valley Authority (TVA).

ACTION: Notice of webinar meeting.

SUMMARY: The TVA Regional Energy Resource Council (RERC) has scheduled a webinar meeting to discuss the public comments received, TVA's responses and the additional sensitivity results relating to TVA's 2019 Integrated Resource Plan (IRP). The RERC was established to advise TVA on its energy resource activities and the priority to be placed among competing objectives and values. Notice of this webinar meeting is given under the Federal Advisory Committee Act (FACA).

DATES: The webinar meeting will be held on Monday, June 10, 2019, from 1:30 p.m. to 3:30 p.m., EDT.

ADDRESSES: The meeting will be conducted by webinar only. An Individual requiring special accommodation for a disability should let the contact below know at least a week in advance.

FOR FURTHER INFORMATION CONTACT: Liz Upchurch, 865-632-8305, efupchurch@tva.gov.

SUPPLEMENTARY INFORMATION: The meeting agenda includes the following:

1. Introductions and Webinar Logistics

2. Remarks of Wayne Davis, RERC Chair

3. Summary of Public Comments received and TVA's responses

4. Information on the additional sensitivity analysis conducted

5. Council Discussion

The webinar is open to the public. Please register in advance at: https://attendee.gotowebinar.com/register/2015138030888975619. No oral comments from the public will be accepted during the webinar session. The public may provide written comments to the RERC at any time through links on TVA's website at www.tva.com/rerc or by mailing written comments to the Regional Energy Resource Council, Tennessee Valley Authority, 400 West Summit Hill Drive, WT-9-D, Knoxville, Tennessee 37902.

Dated: May 10, 2019.
Joseph J. Hoagland,
Vice President, Enterprise Relations and Innovation, Tennessee Valley Authority.

[FR Doc. 2019-10306 Filed 5-16-19; 8:45 am]

BILLING CODE 8120-08-P